DEPARTMENT OF ENERGY

Federal Energy Regulatory Commission

[Docket No. EG02-61-000, et al.]

Bayswater Peaking Facility, LLC, et al.; Electric Rate and Corporate Regulation Filings

January 4, 2001.

Take notice that the following filings have been made with the Commission. Any comments should be submitted in accordance with Standard Paragraph E at the end of this notice.

1. Bayswater Peaking Facility, LLC

[Docket No. EG02-61-000]

On December 28, 2001 Bayswater Peaking Facility, LLC (the Applicant), with its principal offices at 700 Universe Boulevard, Juno Beach, Florida 33408, filed with the Federal Energy Regulatory Commission (Commission) an application for a determination of exempt wholesale generator status pursuant to part 365 of the Commission's regulations.

The Applicant states that it is a Delaware corporation and is the owner and operator of a nominal 46 megawatt natural gas-fired simple cycle peak electric generating facility (“Facility”) to be located in Far Rockaway, Queens County, New York. The Facility will sell energy, capacity, and ancillary services into the wholesale generation market.

Comment Date: January 25, 2002. The Commission will limit its consideration of comments to those that concern the adequacy or accuracy of the application.

2. MAIN Wind I, LLC

[Docket No. EG02-62-000]

Take notice that on January 2, 2002, MAIN Wind I, LLC, 650 NE Holladay, Suite 700, Portland, Oregon 97232, filed with the Federal Energy Regulatory Commission (Commission) an application for determination of exempt wholesale generator status pursuant to part 365 of the Commission's regulations.

The applicant is a limited liability company organized under the laws of the State of Oregon and a wholly owned subsidiary of PacifiCorp Power Marketing, Inc., an Oregon corporation (PPM). PPM is a wholly owned subsidiary of PacifiCorp Holdings, Inc., a Delaware corporation with general offices in Portland, Oregon (PHI). PHI is a wholly owned subsidiary of NA General Partnership, a Nevada general partnership (NAGP). NAGP's two partners are Scottish Power NA 1 Limited and Scottish Power NA 2 Limited. Scottish Power NA 1 Limited and Scottish Power NA 2 Limited are private limited companies incorporated in Scotland and are wholly owned subsidiaries of ScottishPower plc, a public limited corporation organized under the laws of Scotland.

The applicant will be engaged directly and exclusively in the business of owning and/or operating one or more eligible facilities (the Facilities) and selling at wholesale at market-based rates electric energy from the Facilities. Once constructed, the Facilities will consist of an approximately 50 MW wind-powered electric generation facility located near Mendota, Illinois, and may also include an additional approximately 50 MW wind-powered generation facility located near Mendota, Illinois. Copies of the application have been served upon the Oregon Public Utility Commission and the Illinois Public Utility Commission, as “affected state commissions” under 18 CFR § 365.2(b)(3), and the Securities and Exchange Commission.

Comment Date: January 25, 2002. The Commission will limit its consideration of comments to those that concern the adequacy or accuracy of the application.

3. MAPP Wind I, LLC

[Docket No. EG02-63-000]

Take notice that on January 2, 2002, MAPP Wind I, LLC, 650 NE Holladay, Suite 700, Portland, Oregon 97232, filed with the Federal Energy Regulatory Commission (Commission) an application for determination of exempt wholesale generator status pursuant to part 365 of the Commission's regulations.

The applicant is a limited liability company organized under the laws of the State of Oregon and a wholly owned subsidiary of PacifiCorp Power Marketing, Inc., an Oregon corporation (PPM). PPM is a wholly owned subsidiary of PacifiCorp Holdings, Inc., a Delaware corporation with general offices in Portland, Oregon (PHI). PHI is a wholly owned subsidiary of NA General Partnership, a Nevada general partnership (NAGP). NAGP's two partners are Scottish Power NA 1 Limited and Scottish Power NA 2 Limited.

Scottish Power NA 1 Limited and Scottish Power NA 2 Limited are private limited companies incorporated in Scotland and are wholly owned subsidiaries of ScottishPower plc, a public limited corporation organized under the laws of Scotland.

The applicant will be engaged directly and exclusively in the business of owning and/or operating one or more eligible facilities (Facilities) and selling at wholesale at market-based rates electric energy from the Facilities. Once constructed, the Facilities will consist of an approximately 51 MW wind-powered electric generation facility located in southwestern Minnesota, and may also include an additional approximately 80 MW wind-powered generation facility located in southwestern Minnesota. Copies of the application have been served upon the Oregon Public Utility Commission and the Minnesota Public Utility Commission, as “affected state commissions” under 18 CFR § 365.2(b)(3), and the Securities and Exchange Commission.

Comment Date: January 25, 2002. The commission will limit its consideration of comments to those that concern the adequacy or accuracy of the application.

4. West Georgia Generating Company, LLC

[Docket No. ER99-2186-001]

Take notice that on December 31, 2001, West Georgia Generating Company, LLC (West Georgia) tendered for filing with the Federal Energy Regulatory Commission (Commission) a change in upstream ownership of West Georgia that may be relevant to West Georgia's market-based rate authority. West Georgia submits that this change does not affect West Georgia's market-based authority.

Comment Date: January 22, 2002.

5. Geysers Power Company, LLC

[Docket No. ER02-236-001]

Take notice that on December 31, 2001, Geysers Power Company, LLC (Geysers Power), tendered for filing with the Federal Energy Regulatory Commission (Commission) substitute rate sheets which replace certain of the rate sheets submitted by Geysers Power in the above-referenced docket on October 31, 2001, conditionally accepted and suspended by the Commission on December 19, 2001. Geysers Power, LLC, 97 FERC 61,295 (2001). Geysers Power requests waiver for Commission regulations to permit it to establish an effective date of January 1, 2002, for these substitute rate sheets, subject to the terms of the December 19, 2001 Order.

Comment Date: January 22, 2002.

6. PacifiCorp

[Docket No. ER02-653-000]

Take notice that PacifiCorp on December 31, 2001, tendered for filing in accordance with 18 CFR 35 of the Commission's rules and regulations, Fourth Revised Volume No. 11 (Tariff) incorporating proposed changes to its Open Access Transmission Tariff due to retail direct access in the state of Oregon and generation interconnection requirements. Copies of this filing were supplied to the Washington Utilities and Transportation Commission and the Public Utility Commission of Oregon.

PacifiCorp has requested an effective date of March 1, 2002.

Comment Date: January 22, 2002.

7. PacifiCorp

[Docket No. ER02-654-000]

Take notice that PacifiCorp on December 31, 2001, tendered for filing in accordance with 18 CFR 35 of the Commission's Rules and Regulations, a Network Integration Transmission Service Agreement with Basin Electric Power Cooperative (Basin) under PacifiCorp's FERC Electric Tariff, Third Revised Volume No. 11 (Tariff).

Copies of this filing were supplied to the Washington Utilities and Transportation Commission and the Public Utility Commission of Oregon.

Comment Date: January 22, 2002.

8. New England Power Pool

[Docket No. ER02-655-000]

Take notice that on December 31, 2001, the New England Power Pool (NEPOOL) Participants Committee filed for acceptance materials to permit NEPOOL to expand its membership to include J. Aron & Company (J. Aron), the Connecticut Office of Consumer Counsel (CT OCC), and Entergy Nuclear Vermont Yankee, LLC (ENVY). The Participants Committee requests effective dates of January 1, 2002, February 1, 2002, and March 1, 2002 for commencement of participation in NEPOOL by J. Aron, CT OCC, and ENVY, respectively.

The Participants Committee states that copies of these materials were sent to the New England state governors and regulatory commissions and the Participants in NEPOOL.

Comment Date: January 22, 2002.

9. New England Power Pool

[Docket No. ER02-656-000]

Take notice that on December 31, 2001, the New England Power Pool (NEPOOL) Participants Committee submitted a filing requesting the approval of proposed changes to NEPOOL Market Rules & Procedures 5, 9, Appendix 11-D and 20, to modify NEPOOL's Load Response Program. The proposed modifications were developed to increase participation in the Program.

The NEPOOL Participants Committee states that copies of these materials were sent to the New England state governors and regulatory commissions and the Participants in the New England Power Pool.

Comment Date: January 22, 2002.

10. PJM Interconnection, L.L.C.

[Docket No. ER02-657-000]

Take notice that on December 31, 2001, PJM Interconnection, L.L.C. (PJM), submitted for filing revisions to the Reliability Assurance Agreement Among Load Serving Entities in the PJM Control Area (RAA). PJM states that the proposed changes will expand membership in the RAA's Reliability Committee to include more market participants, as desired by the Commission. Copies of this filing were served upon all PJM members and the state electric utility regulatory commissions in PJM.

PJM proposes January 1, 2002 as the effective date for these changes and, to that end, requests waiver of the Commission's 60-day notice requirement.

Comment Date: January 22, 2002.

11. PJM Interconnection, L.L.C.

[Docket No. ER02-658-000]

Take notice that on December 31, 2001, PJM Interconnection, L.L.C. (PJM), submitted for filing with the Federal Energy Regulatory Commission (Commission) revisions to the PJM West Reliability Assurance Agreement Among Load Serving Entities in the PJM West Region (West RAA). PJM states that the proposed revisions will better coordinate the capacity procedures and markets under the West RAA with those in effect for PJM's existing control area under the Reliability Assurance Agreement Among Load Serving Entities in the PJM Control Area and also place a ceiling on the exposure of load-serving entities to capacity deficiency charges under the West RAA. PJM states that these changes also expand membership in the West RAA's Reliability Committee to include more market participants, as desired by the Commission.

PJM states that it has designated January 1, 2002 as the effective date for these changes, to be consistent with the effective date previously requested for the West RAA and other PJM West documents in Docket No. RT01-98-000. PJM requests, however, that the Commission, through suspension or otherwise, assign to the West RAA amendments in this docket the same effective date as is established for the West RAA in Docket No. RT01-98-000 and, to the extent necessary, grant waiver of the Commission's 60-day notice requirement.

Copies of this filing were served upon all PJM members, the state electric utility regulatory commissions in PJM, and all parties listed on the official service list in Docket No. RT01-98-000.

Comment Date: January 22, 2002.

12. Xcel Energy Services Inc.

[Docket No. ER02-659-000]

Take notice that on December 31, 2001, Xcel Energy Services Inc. (XES), on behalf of Southwestern Public Service Company (Southwestern), submitted for filing a Transaction Agreement between Southwestern and El Paso Electric Company. XES requests that this agreement become effective on January 1, 2002.

Comment Date: January 22, 2002.

13. Deseret Generation & Transmission Co-operative, Inc.

[Docket No. ER02-660-000]

Take notice that on December 31, 2001, Deseret Generation & Transmission Co-operative, Inc. (Deseret) submitted for filing amended and executed long-term firm point-to-point transmission service agreement with IDACORP Energy L.P. (IDACORP). A copy of this filing was served on IDACORP.

Deseret requests an effective date of January 1, 2002.

Comment Date: January 22, 2002.

14. Connexus Energy

[Docket No. ER02-661-000]

Take notice that on December 31, 2001, Connexus Energy submitted for filing with the Federal Energy Regulatory Commission (Commission) revised sheets to Connexus Energy's Electric Rate Schedule FERC No. 1. Connexus Energy states that the revised sheets effect minor rate changes under Connexus Energy's contract with Elk River Municipal Utilities. Connexus Energy requests waiver of the Commission's notice requirement to allow a January 1, 2002 effective date.

Comment Date: January 22, 2002.

15. Boston Edison Company

[Docket No. ER02-662-000]

Take notice that on December 31, 2001, Boston Edison Company (Boston Edison) tendered for filing an unexecuted interconnection Agreement between Boston Edison and IDC Bellingham, LLC (IDC Bellingham). Boston Edison requests an effective date of March 1, 2002.

Boston Edison states that it has served a copy of the filing on IDC Bellingham and the Massachusetts Department of Telecommunications and Energy.

Comment Date: January 22, 2002.

16. Public Service Company of New Hampshire

[Docket No. ER02-663-000]

Take notice that on December 31, 2001, Public Service Company of New Hampshire (PSNH) submitted for filing with the Federal Energy Regulatory Commission (Commission) an informational statement concerning PSNH's fuel and purchased power adjustment clause charges and credits for the periods of July 1, 2000 to March 31, 2001.

This informational statement is submitted pursuant to a settlement agreement approved by the Commission in Publ. Serv. Co of New Hampshire, 57 FERC ¶ 61,068 (1991), and a settlement stipulation approved by the Commission by Letter Order in Docket Nos. ER91-143-000, ER91-235-000 and EL91-15-000, dated July 22, 1992.

Copies of this filing were served upon the Town of Ashland Electric Company and the New Hampton Village Precinct.

Comment Date: January 22, 2002.

17. American Transmission Company LLC

[Docket No. ER02-664-000]

Take notice that on December 31, 2001, American Transmission Company LLC (ATCLLC) tendered for filing Firm and Non-Firm Point-to-Point Service Agreements for Maclaren Energy Inc.

ATCLLC requests an effective date of January 1, 2002.

Comment Date: January 22, 2002.

18. Puget Sound Energy, Inc.

[Docket No. ER02-665-000]

Take notice that on December 31, 2001, Puget Sound Energy, Inc., as Transmission Provider, tendered for filing a Service Agreement for Short-Term Firm Point-To-Point Transmission Service with the United States of America Department of Energy acting by and through the Bonneville Power Administration (Bonneville), as Transmission Customer. A copy of the filing was served upon Bonneville.

Comment Date: January 22, 2002.

19. Cinergy Services, Inc.

[Docket No. ER02-666-000]

Take notice that on December 31, 2001, Cinergy Services, Inc., (Provider), tendered for filing with the Federal Energy Regulatory Commission (Commission) a proposed renewal of Cinergy Rate Schedule No. 292, by and between Provider and NewEnergy, Inc. (Customer). The successive annual term is in accordance with Cinergy Rate Schedule No. 292, which has been previously accepted by the Commission under FERC Docket No. ER01-882.

Provider and Customer are requesting an effective date of January 1, 2002.

Comment Date: January 22, 2002.

20. Cinergy Services, Inc.

[Docket No. ER02-667-000]

Take notice that on December 31, 2001, Cinergy Services, Inc., (Provider), tendered for filing with the Federal Energy Regulatory Commission (Commission) a proposed renewal of Cinergy Rate Schedule No. 288, by and between Provider and FirstEnergy Services Corp. (Customer). The successive annual term is in accordance with Cinergy Rate Schedule No. 288, which has been previously accepted by the Commission under FERC Docket No. ER01-881.

Provider and Customer are requesting an effective date of January 1, 2002.

Comment Date: January 22, 2002.

21. Cinergy Services, Inc.

[Docket No. ER02-668-000]

Take notice that on December 31, 2001, Cinergy Services, Inc. (Provider) tendered for filing with the Federal Energy Regulatory Commission (Commission) a proposed renewal of Cinergy Rate Schedule No. 286, by and between Provider and Strategic Energy, LLC (Customer). The successive annual term is in accordance with Cinergy Rate Schedule No. 286, which has been previously accepted by the Commission under FERC Docket No. ER01-880.

Provider and Customer are requesting an effective date of January 1, 2002.

Comment Date: January 22, 2002.

22. Bayswater Peaking Facility, LLC

[Docket No. ER02-669-000]

Take notice that on December 28, 2001, Bayswater Peaking Facility, LLC (Bayswater) tendered for filing with the Federal Energy Regulatory Commission (Commission) an application for authorization to sell wholesale power at market-based rates, and certain ancillary services at market-based rates into the New York market. Bayswater also requested that the Commission accept for filing a long-term Power Purchase Agreement for the sale of the power from Bayswater to the Long Island Power Authority as a stand-alone rate schedule under its proposed market rate tariff. Bayswater has requested that this Market Rate Tariff become effective upon commencement of service.

Copies of this filing have been served on the New York State Public Service Commission and the Long Island Power Authority.

Comment Date: January 22, 2002.

23. Delmarva Power & Light Company

[Docket No. ER02-670-000]

Take notice that on December 31, 2001, Delmarva Power & Light Company (Delmarva), tendered for filing revised rate schedule sheets between Delmarva and each of the Delaware Cities of Milford, Newark, and New Castle and the Delaware Towns of Middletown, Clayton, and Smryna (collectively, the Municipalities). Delmarva also tendered for filing a revised rate schedule between Delmarva and the Delaware Municipal Electric Corporation (DEMEC). Delmarva requests that the Commission waive its notice of filing requirements to allow all of the revised rate schedule sheets to become effective as of January 1, 2002.

Copies of the filing were served upon the Delmarva's jurisdictional customers and the Delaware Public Service Commission.

Comment Date: January 22, 2002.

24. ConAgra Trade Group, Inc.

[Docket No. ER02-672-000]

Take notice that on December 28, 2001, ConAgra Energy Services, Inc. changed its name to ConAgra Trade Group, Inc. All contractual agreements with ConAgra Energy Services, Inc. remain unaffected and will be performed by ConAgra Trade Group, Inc.

Comment Date: January 22, 2002.

25. Midwest Independent Transmission System Operator, Inc.

[Docket No. ER02-673-000]

Take notice that on December 31, 2001, the Midwest Independent Transmission System Operator, Inc. (Midwest ISO) filed proposed amendments to its Open Access Transmission Tariff (OATT) and Agreement of Transmission Facilities Owners to Organize the Midwest ISO (Midwest ISO Agreement) in compliance with the Commission's Order in Docket No. ER98-1438-000, et al., Midwest Independent Transmission System Operator, Inc., 97 FERC ¶ 61,033 (2001), which required the Midwest ISO to place and provide all load under the Midwest ISO OATT.

The Midwest ISO requests that its amendments become effective on the later of February 1, 2002 or the date the Midwest ISO begins providing service under its OATT.

The Midwest ISO also seeks waiver of the Commission's regulations, 18 CFR 385.2010 (2001) with respect to service on all parties on the official service list in this proceeding. The Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “Filings to FERC” for other interested parties in this matter. The Midwest ISO will provide hard copies to any interested parties upon request.

Comment Date: January 22, 2002.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

C. B. Spencer,
Acting Secretary.

[FR Doc. 02-620 Filed 1-9-02; 8:45 am]

BILLING CODE 6717-01-P